DEPARTMENT OF DEFENSE

Office of the Secretary

[Transmittal No. 19-0B]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0B with attached Policy Justification.

Dated: July 22, 2019.
Aaron T. Siegel,
Alternate OSD Federal Register Liaison Officer, Department of Defense.

BILLING CODE 5001-06-P

BILLING CODE 5001-06-C

Transmittal No. 19-0B

REPORT OF ENHANCEMENT OR UPGRADE OF SENSITIVITY OF TECHNOLOGY OR CAPABILITY (SEC. 36(B)(5)(C), AECA)

(i) Purchaser: Government of Romania

(ii) Sec. 36(b)(1), AECA Transmittal No.: 17-36

Date: August 18, 2017

Military Department: Army

(iii) Description: On August 18, 2017, Congress was notified by Congressional certification transmittal number 17-36 of the possible sale under Section 36(b)(1) of the Arms Export Control Act of 54 High Mobility Artillery Rocket Systems (HIMARS) Launchers, 81 Guided Multiple Launch Rocket Systems (GMLRS) M31A1-Unitary, 81 GMLRS M30A1-Alternative Warhead, 54 Army Tactical Missile Systems (ATACMS) M57 Unitary, 24 Advanced Field Artillery Tactical Data Systems (AFATDS), 15 High Mobility Multipurpose Wheeled Vehicles (HMMWV), Utility-Armored, M1151A1 and 15 HMMWVs, Armor Ready 2-Man, M1151A1. Included: 54 each M1084A1P2 HIMARS Resupply Vehicles (RSVs), 54 M1095 MTV Cargo Trailer with RSV kit, and 10 each M1089A1P2 FMTV Wreckers 30 Low Cost Reduced Range (LCRR) practice rockets. Also includes repair parts, training and U.S. Government support. The estimated total cost was $1.25 billion. Major Defense Equipment (MDE) constituted $900 million of this total.

This transmittal notifies the addition of:

1. Forty-eight (48) Advanced Field Artillery Tactical Data Systems (AFATDS) (MDE);

2. Forty-five (45) M1152A1 HMMWVs—Armor Ready 2-Man (MDE);

3. Fifty-four (54) M1084A1P2 HIMARS Resupply Vehicles (MDE);

4. Support and communications equipment, spare and repair parts, test sets, batteries, laptop computers, publications and technical data, facility design, personnel training and equipment, systems integration support, Quality Assurance Teams and a Technical Assistance Fielding Team, United States Government and contractor engineering and logistics personnel services. (non-MDE)

The additional MDE items are valued at $24.42 million, resulting in a new MDE value of $924.42 million, and additional non-MDE items are valued at $225.574 million, resulting in a total program increase of $250 million. The total case value will increase to $1.5 billion.

(iv) Significance: This proposed sale of defense articles and services supports Romania's ongoing effort to modernize its armed forces and increase the Army's capacity to counter threats posed by potential attacks. This will contribute to the Romanian's Armed Forces effort to update their capabilities and enhance interoperability with the U.S. and other allies.

(v) Justification: This proposed sale will contribute to the foreign policy and national security of the United States by helping to improve the security of a NATO ally in developing and maintaining a strong and ready self-defense capability. This proposed sale will enhance U.S. national security objectives in the region.

(vi) Sensitivity of Technology: The statement contained in the original AECA 36(b)(1) transmittal applies to the MDE items reported here.

(vii) Date Report Delivered to Congress: March 12, 2019

[FR Doc. 2019-15844 Filed 7-25-19; 8:45 am]

BILLING CODE 5001-06-P